PEACE CORPS

Information Collection Requests Under OMB Review

AGENCY: Peace Corps.

ACTION: Notice of public use form review request to the Office of Management and Budget (OMB Control Number 0420-0513).

SUMMARY: Pursuant to the Paperwork Reduction Act of 1981 (44 USC, Chapter 35), the Peace Corps has submitted to the Office of Management and Budget a request for approval of information collections, OMB Control Number 0420-0513, the Peace Corps Teacher Brochure/Enrollment Form; the Peace Corps Volunteer Enrollment Form; and the follow-up program survey, the World Wise Schools (WWS) annual Teacher Survey. The purpose of this information collection is to include the participation of interested teachers and Peach Corps Volunteers in the WWS Program. The initial Federal Register notice was published on February 5, 2002, Volume 67, No. 24, P. 5348, for 60 days. Also available at www.gpo.gov access Wais. No comments, inquires, or responses to the notice were received. A copy of the information collection may be obtained from Ms. Amy Wickenheiser, Peace Corps, Office of Domestic Programs, World Wise Schools, 1111 20th Street, NW., Room 2144, Washington, DC 20526. Ms. Wickenheiser can be contacted by telephone at 202-692-1426 or 800-424-8580 ext 1426. For general information about the Peace Corps, visit our Web site at www.peacecorps.gov. The Peace Corps invites comment on whether the proposed collection of information is necessary for proper performance of the functions of the Peace Corps, including whether their information will have practical use; the accuracy of the agency's estimate of the burden of the proposed collections information, including the validity of the methodology and assumptions used; and, ways to minimize the burden of the collection of information on those who respond, including through the use of automated collection techniques, when appropriate, and other forms of information technology. Comments on these forms should be addressed to the attention of the Peace Corps Desk Officer, Office of Management and Budget, NEOB, Washington, DC 20503. Comments should be received on or before June 3, 2002.

Information Collection Abstract

Title: Peace Corps Teacher Brochure/Enrollment Form; Peace Corps Volunteer Enrollment Form; and the World Wise Schools (WWS) annual Teacher Survey.

Need for and use of this information: interested Teachers and Volunteers who want to participate in the World Wise Schools Program complete The Peace Corps Teacher and Volunteer Enrollment Forms. The Teacher Survey asks questions to better determine which populations we are serving as well as which teachers have access to alternative information channels. The survey also assists in developing WWS Programs to meet the needs of the schools and teachers it serves. There is no other means of obtaining the required data. This program also fulfills the third goal of the Peace Corps as required by Congressional legislation.

Respondents: Teachers and Peace Corps Volunteers.

Respondent's Obligation to Reply: Individuals who voluntarily agree to participate in the WWS educational programs.

Burden on the public | Teacher/volunteer forms | Teacher survey
a. Annual reporting burden | 833 hours | 1,000 hours.
b. Annual record keeping burden | 250 hours | 330 hours.
c. Estimated average burden per response | 5 minutes | 10 minutes.
d. Frequency of response: | one time | one time.
e. Estimated number of likely respondents: | 10,000 | 6,000.
f. Estimated cost to respondents: | $1.84 | $3.68.

At this time, responses will be returned by mail.

This notice is issued in Washington, DC, on April 28, 2002.
July Van Rest,
Associate Director for Management.

[FR Doc. 02-10969 Filed 5-2-02; 8:45 am]

BILLING CODE 6051-01-M